DEPARTMENT OF ENERGY

Federal Energy Regulatory Commission

18 CFR Part 284

[Docket No. RM08-1-001; Order No. 712-A]

Promotion of a More Efficient Capacity Release Market

December 22, 2008.

AGENCY: Federal Energy Regulatory Commission, DOE.

ACTION: Final rule; correction.

SUMMARY: The Federal Regulatory Commission (FERC) is correcting a final rule that appeared in the Federal Register of December 1, 2008 (73 FR 72692). The document revised regulations governing interstate natural gas pipelines to reflect changes in the market for short-term transportation services on pipelines and to improve the efficiency of the Commission's capacity release program.

DATES: Effective Date: This rule will become effective December 31, 2008.

FOR FURTHER INFORMATION CONTACT: William Murrell, Office of Energy Market Regulation, Federal Energy Regulatory Commission, 888 First Street, NE., Washington, DC 20426, William.Murrell@ferc.gov, (202) 502-8703.

Robert McLean, Office of General Counsel, Federal Energy Regulatory Commission, 888 First Street, NE., Washington, DC 20426, Robert.McLean@ferc.gov, (202) 502-8156.

David Maranville, Office of the General Counsel, Federal Energy Regulatory Commission, 888 First Street, NE., Washington, DC 20426, David.Maranville@ferc.gov, (202) 502-6351.

SUPPLEMENTARY INFORMATION: In FR Doc. E8-28217 appearing on page 72692 in the Federal Register of Monday, December 1, 2008, the following corrections are made:

§ 284.8(h) [Corrected]

1. On page 72714, in the first column, in § 284.8 Release of Capacity by Interstate Pipelines, in paragraph (h)(1)(i), “A release of capacity to an asset manager as defined in paragraph (h)(4) of this section” is corrected to read “A release of capacity to an asset manager as defined in paragraph (h)(3) of this section;”

§ 284.8(h) [Corrected]

2. On page 72714 in the first and second columns, in § 284.8 Release of Capacity by Interstate Pipelines, in paragraph (h)(1)(ii), “A release of capacity to a marketer participating in a state-regulated retail access program as defined in paragraph (h)(5) of this section” is corrected to read “A release of capacity to a marketer participating in a state-regulated retail access program as defined in paragraph (h)(4) of this section”

Nathaniel J. Davis, Sr.,
Deputy Secretary.

[FR Doc. E8-30910 Filed 12-29-08; 8:45 am]

BILLING CODE 6717-01-P